DEPARTMENT OF COMMERCE

Foreign-Trade Zones Board

[S-122-2024]

Foreign-Trade Zone 29; Application for Subzone; Catalent Pharma Solutions, LLC; Winchester, Kentucky

An application has been submitted to the Foreign-Trade Zones (FTZ) Board by the Louisville & Jefferson County Riverport Authority, grantee of FTZ 29, requesting subzone status for the facility of Catalent Pharma Solutions, LLC, located in Winchester, Kentucky. The application was submitted pursuant to the provisions of the Foreign-Trade Zones Act, as amended (19 U.S.C. 81a-81u), and the regulations of the FTZ Board (15 CFR part 400). It was formally docketed on July 23, 2024.

The proposed subzone (32.6 acres) is located at 1100 Enterprise Drive, Winchester, Kentucky. A notification of proposed production activity has been submitted and is being processed under 15 CFR 400.37 (Doc. B-34-2024). The proposed subzone would be subject to the existing activation limit of FTZ 29.

In accordance with the FTZ Board's regulations, Juanita Chen of the FTZ Staff is designated examiner to review the application and make recommendations to the Executive Secretary.

Public comment is invited from interested parties. Submissions shall be addressed to the FTZ Board's Executive Secretary and sent to: ftz@trade.gov. The closing period for their receipt is September 9, 2024. Rebuttal comments in response to material submitted during the foregoing period may be submitted during the subsequent 15-day period to September 23, 2024.

A copy of the application will be available for public inspection in the “Online FTZ Information Section” section of the FTZ Board's website, which is accessible via www.trade.gov/ftz.

For further information, contact Juanita Chen at juanita.chen@trade.gov.

Dated: July 23, 2024.
Camille R. Evans,
Acting Executive Secretary.

[FR Doc. 2024-16579 Filed 7-26-24; 8:45 am]

BILLING CODE 3510-DS-P